NUCLEAR WASTE TECHNICAL REVIEW BOARD

Notice of Meeting

Board meeting: September 19, 2007—Las Vegas, Nevada; The U.S. Nuclear Waste Technical Review Board will meet to discuss U.S. Department of Energy activities related to the possible development of a repository for spent nuclear fuel and high-level radioactive waste at Yucca Mountain in Nevada.

Pursuant to its authority under section 5051 of Public Law 100-203, Nuclear Waste Policy Amendments Act of 1987, the U.S. Nuclear Waste Technical Review Board will meet in Las Vegas, Nevada on Wednesday, September 19, 2007. The Board was created in the Nuclear Waste Policy Amendments Act of 1987 and charged with performing an independent review of the technical and scientific validity of U.S. Department of Energy (DOE) activities related to implementing the Nuclear Waste Policy Act. Such activities include characterizing the proposed repository site for disposing of spent nuclear fuel and high-level radioactive waste at Yucca Mountain in Nevada and packaging and transporting the waste.

The focus of the meeting, which will be open to the public, will be repository surface-facility designs and operations; other technical issues also may be discussed. A final meeting agenda will be available on the Board's Web site (www.nwtrb.gov) or by telephone request approximately one week before the meeting date.

The meeting will be held at the Atrium Suites Hotel; 4255 S. Paradise Road; Las Vegas, Nevada 89109; (tel) 702-369-4400; (res) 866-404-5286; (fax) 702-369-4330.

The meeting will begin at 8 a.m. Time will be set aside at the end of the day for public comments. Those wanting to speak are encouraged to sign the “Public Comment Register” at the check-in table. A time limit may have to be set on individual remarks, but written comments of any length may be submitted for the record.

Transcripts of the meeting will be available on the Board's Web site, by e-mail, on computer disk, and on a library-loan basis in paper format from Davonya Barnes of the Board's staff no later than October 15, 2007.

A block of rooms has been reserved for meeting participants at the Atrium Suites. When making a reservation, please state that you are attending the NWTRB meeting. Reservations should be made by August 27, 2007, to ensure receiving the meeting rate.

For more information, contact Karyn Severson, NWTRB External Affairs; 2300 Clarendon Boulevard, Suite 1300; Arlington, VA 22201-3367; (tel) 703-235-4473; (fax) 703-235-4495.

Dated: August 7, 2007.
William D. Barnard,
Executive Director, Nuclear Waste Technical Review Board.

[FR Doc. 07-3937 Filed 8-10-07; 8:45 am]

BILLING CODE 6820-NM-M